DEPARTMENT OF THE INTERIOR

Office of the Secretary

[DR5A311.IA000113]

Secretarial Commission on Indian Trust Administration and Reform

AGENCY: Office of the Secretary, Interior.

ACTION: Notice of meeting.

SUMMARY: The Office of the Secretary is announcing that the Secretarial Commission on Indian Trust Administration and Reform (the Commission) will hold a public meeting on April 29, 2013. During the public meeting, the Commission will: gain insights about how the UN Declaration can be implemented in support of tribes; hear the top three recommendations from tribal representatives and members of the United South and Eastern Tribes, Inc., that would improve or strengthen trust management and/or administration; update the public regarding draft recommendations and receive public comments; and attend to operational activities of the Commission.

DATES: The Commission's public meeting will begin at 8 a.m. and end at 5 p.m. on April 29, 2013. Members of the public who wish to attend should RSVP by April 24, 2013, to: trustcommission@ios.doi.gov. Members of the public who wish to participate via virtual meeting should register at https://www1.gotomeeting.com/register/893317865 by April 24, 2013, and instructions on how to join the meeting will be sent to your email address. Virtual participation is limited to 100 participants.

ADDRESSES: The public meeting will be held at One Century Place Conference Center, Conference Room #104, 26 Century Blvd., Nashville, TN 37214. We encourage you to RSVP to trustcommission@ios.doi.gov by April 24, 2013.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior on how to improve in the future. The Commission will:

(1) Conduct a comprehensive evaluation of the Department's management and administration of the trust administration system;

(2) Review the Department's provision of services to trust beneficiaries;

(3) Review input from the public, interested parties, and trust beneficiaries which should involve conducting a number of regional listening sessions;

(4) Consider the nature and scope of necessary audits of the Department's trust administration system;

(5) Recommend options to the Secretary to improve the Department's management and administration of the trust administration system based on information obtained from the Commission's activities, including whether any legislative or regulatory changes are necessary to permanently implement such improvements; and

(6) Consider the provisions of the American Indian Trust Fund Management Reform Act of 1994 providing for the termination of the Office of the Special Trustee for American Indians, and make recommendations to the Secretary regarding any such termination.

Meeting Details

On Monday, April 29, 2013, the Commission will hold a meeting open to the public. The following items will be on the agenda:

Monday, April 29, 2013

• Invocation;

• Welcome, introductions, agenda review;

• Presentation and discussion on UN Declaration on the Rights of Indigenous Peoples and International Trust Models;

• Panel session regarding the Vision of Trust Management Model, Responsibility and Reform;

• Commission Operations Reports and Decision Making;

• Panel session regarding Trust Reform and Administration;

• Commission review and discussion of preliminary recommendations and public comment;

• Closing thoughts from United South and Eastern Tribes, Inc.;

• Review action items, meeting accomplishments; and

• Closing blessing, adjourn.

Written comments may be sent to the Designated Federal Official listed in the FOR FURTHER INFORMATION CONTACT section above. All meetings are open to the public; however, transportation, lodging, and meals are the responsibility of the participating public. To review all related material on the Commission's work, please refer to http://www.doi.gov/cobell/commission/index.cfm.

Dated: April 8, 2013.
David J. Hayes,
Deputy Secretary.

[FR Doc. 2013-08616 Filed 4-11-13; 8:45 am]

BILLING CODE 4310-W7-P